DEPARTMENT OF TRANSPORTATION

Federal Highway Administration

Environmental Impact Statement: Polk County, IA

AGENCY: Federal Highway Administration (FHWA), DOT, City of Des Moines.

SUMMARY: The FHWA is issuing this notice to advise the public that an environmental impact statement (EIS) will be prepared for a proposed roadway project in Polk County, Iowa. The planned EIS will evaluate potential transportation improvement alternatives for serving east-west travel between downtown Des Moines and the Highway 65 outer beltway.

FOR FURTHER INFORMATION CONTACT: Phillip E. Barnes, P.E., Division Administrator, Federal Highway Administration, 105 Sixth Street, Ames, Iowa 50010-6337, Phone: (515) 233-7300. Scott Dockstader, P.E., District Engineer, Iowa Department of Transportation, 1020 S. Fourth Street, Ames, Iowa 50010, Phone: (515) 239-1635. Jeb Brewer, P.E., City Engineer, City of Des Moines, 400 Robert D. Ray Drive, Des Moines, Iowa 50309-1891, Phone: (515) 237-2113.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode, or via the Internet through (2) telnet, (3) FTP, and (4) the World Wide Web.

For dial-in mode, a user needs a personal computer, modem, telecommunications software package, and a telephone line. A hard disk is recommended for file transfers.

For Internet access, a user needs Internet connectivity. Users can telnet or FTP to: fedbbs.access.gpo.gov. Users can access the FBB via the World Wide Web at http://fedbbs.access.gpo.gov.

User assistance for the FBB is available from 7 a.m. until 5 p.m., Eastern Time, Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the City of Des Moines and the Iowa Department of Transportation will prepare an Environmental Impact Statement (EIS) for the Southeast Connector urban arterial street corridor from Southeast 14th Street to its planned connection to Highway 65, all in southeasterly Des Moines.

The proposed project is intended to directly connect the primarily industrial southeast quadrant of Des Moines to both the Highway 65 outer beltway and downtown via the Martin Luther King Jr. Parkway Extension over the Des Moines River. The increased connectivity will lead to economic development opportunities in the southeast area of the city, including a planned agribusiness park and improved access for redeveloped areas. Other potential benefits include improving regional mobility, addressing local road system deficiencies, improving access to jobs, improving safety, and improving traffic operations. Primary environmental resources that may be affected include numerous known and potential hazardous waste generating sites, floodplains, wetlands, and agricultural land. The surrounding area also contains stable and cohesive populations of minority and low-income residents, which will lead to the consideration of environmental justice impacts.

Alternatives under consideration include the no action, transportation system management (TSM)/travel demand management (TDM), new arterial roadway, existing arterial improvement, and transit alternatives. The mode, project type, location, and length of the alternatives evaluated will be identified based on the results of alternative studies.

The scoping process undertaken as part of this proposed project will include distribution of a scoping information packet, coordination with appropriate Federal, State and local agencies, including an agency scoping meeting to be held on September 7, 2005, at 1 p.m. at the St. Etienne Conference Room in the Armory Building at 602 Robert D. Ray Drive, Des Moines, Iowa 50309. A study group comprised of local officials, environmental organizations, and other community interest groups has been established to provide input during the development of the purpose and need and alternative analyses.

To help ensure that a full range of issues related to this proposed project are identified and all substantive issues are addressed, a comprehensive public involvement program has been devised. It includes meetings with advisory committees, resource agencies, local officials, and interest groups; public informational meetings and workshops; newsletters; and focus groups. Public notice will be given of the time and place of all public meetings and the public hearing. The Draft EIS will be available for public review and comments and suggestions are invited from all interested parties.

Comments or questions concerning this proposed project and the EIS should be directed to the FHWA, Iowa Department or Transportation, or City of Des Moines at the addresses provided above.

(Catalog of Federal Domestic Assistance Program Number 20.205, Highway Planning and Construction. The regulations implementing Executive Order 12372 regarding intergovernmental consultation on Federal programs and activities apply to this program)

(Authority: 23 U.S.C. 315; 49 CFR 1.48)

Dated: June 15, 2005.
Gerald L. Kennedy,
Acting Division Administrator, FHWA, Iowa Division.

[FR Doc. 05-14377 Filed 7-20-05; 8:45 am]

BILLING CODE 4910-22-P